DEPARTMENT OF THE INTERIOR

Bureau of Ocean Energy Management

[Docket No. BOEM-2025-0483]

Notice of Availability of the 11th National Outer Continental Shelf Oil and Gas Leasing Draft Proposed Program: 1st Analysis and Proposal MAA104000

AGENCY: Bureau of Ocean Energy Management, Interior.

ACTION: Notice of Availability; request for comments.

SUMMARY: The Bureau of Ocean Energy Management (BOEM) is announcing the availability of, and requests comments on, the Draft Proposed Program (DPP) for the 11th National Outer Continental Shelf (OCS) Oil and Gas Leasing Program (11th Program or National OCS Program).

DATES: Comments should be submitted by January 23, 2026 to the address specified in the ADDRESSES section of this notice.

ADDRESSES: Comments on the DPP may be submitted in one of the following ways:

1. Through the Regulations.gov web portal (preferred method): Navigate to http://www.regulations.gov and under the Search tab, in the space provided, type in Docket ID: BOEM-2025-0483 to submit comments and to view other comments already submitted.

2. Mailed in an envelope labeled “Comments for the 11th National OCS Oil and Gas Leasing Program” and mailed (or hand delivered) to Ms. Kelly Hammerle, Bureau of Ocean Energy Management (VAM-LD), 45600 Woodland Road, Sterling, VA 20166-9216, telephone (703) 342-8867.

FOR FURTHER INFORMATION CONTACT: Ms. Kelly Hammerle, Program Manager, (703) 342-8867.

SUPPLEMENTARY INFORMATION: The OCS Lands Act declares that it is the policy of the United States that the OCS “is a vital national resource reserve held by the Federal Government for the public, which should be made available for expeditious and orderly development, subject to environmental safeguards, in a manner which is consistent with the maintenance of competition and other national needs.” (43 U.S.C. 1332). BOEM requests information and comments from Tribal, state, and local governments; Native American and Native Alaskan organizations; Federal agencies; environmental and other public interest organizations; the oil and gas industry; non-energy industries; other interested organizations and entities; and the public for use in the preparation of the 11th National OCS Program. BOEM is seeking a wide array of information, including but not limited to information associated with the economic, social, and environmental values of all OCS resources, as well as the potential impact of oil and gas exploration and development on OCS resources and the marine, coastal, and human environments.

During this comment period, BOEM is soliciting nominations for environmentally sensitive areas that may be considered for exclusion from leasing. These may be analyzed in the environmental analysis document at the National OCS Program stage but may also be reviewed and considered at subsequent stages in the process. Ideally, nominations for areas to exclude from leasing would be discrete geographic areas that are smaller than a planning area (e.g., areas of sensitive bottom habitat in the Gulf of America (GOA)).

Public Comment Procedure

BOEM will accept comments via the internet commenting system regulations.gov, or by regular U.S. mail. Comments submitted by other means may not be considered. BOEM's strong preference is to receive comments via regulations.gov, except when a comment contains proprietary information. Comments should include full names and addresses of the individual submitting the comment(s). Before including personal identifying information in your comment, be aware that your entire comment—including your personal identifying information—may be made publicly available. While you can ask BOEM in your comment to withhold your personal identifying information from public review, BOEM cannot guarantee that we will be able to do so. Even if BOEM withholds your information in the context of this notice, your submission is subject to the Freedom of Information Act (FOIA), and if your submission is requested under the FOIA, your information will only be withheld if a determination is made that one of the FOIA's exemptions to disclosure applies. Such a determination will be made in accordance with the Department's FOIA regulations and applicable law.

Published Documents: The 11th National Outer Continental Shelf Oil and Gas Leasing.

Draft Proposed Program: 1st Analysis and Proposal can be found at https://www.boem.gov/National-Program.

Background Information

The development of a new National OCS Program is a key component of the U.S. Department of the Interior's implementation of President Donald Trump's Executive Order (E.O.) 14154, “Unleashing American Energy” (January 20, 2025), and Secretary Burgum's Secretary's Order 3418, “Unleashing American Energy” (February 3, 2025). The E.O. states that it is “in the national interest to unleash America's affordable and reliable energy and natural resources” and that it “is the policy of the United States . . . to encourage energy exploration and production on Federal lands and waters, including on the [OCS], in order to meet the needs of our citizens and solidify the United States as a global energy leader long into the future.”

As directed by the Secretary of the Interior (Secretary), BOEM initiated the development of the 11th Program by issuing a Request for Information and Comments (RFI) on April 30, 2025 (90 FR 17972). The National OCS Program development process is consistent with Section 18 of the Outer Continental Shelf Lands Act (OCS Lands Act), 43 U.S.C. 1344, and its implementing regulations, and includes the development of a DPP, a Proposed Program, a Proposed Final Program (PFP), and Secretarial approval of the 11th Program.

This Notice of Availability (NOA) announces the availability of the DPP for public review and comment. The DPP includes an analysis of all 27 OCS Planning Areas under Section 18, called the 1st Analysis, and the Secretary's 1st Proposal of lease sales on the OCS for the 11th Program. This 1st Proposal provides the basis for gathering information and conducting analyses to inform the Secretary on which areas to include in the 2nd Proposal for further leasing consideration in the 11th Program.

The 1st Proposal for the 11th Program would make more than 85 percent of the estimated technically recoverable OCS oil and gas resources available for leasing during the five-year period following program approval. The 1st Proposal considers three of the four OCS Regions for leasing, including the program areas that are estimated to have some of the most prospective oil and gas resources and potential to provide beneficial effects for the U.S. economy and national security from reduced oil imports and stable energy sources.

The 1st Proposal will enable the Secretary to receive information necessary to conduct a thorough consideration of the section 18(a)(2) factors and to perform the balancing analysis required by Section 18(a)(3) of the OCS Lands Act necessary to select the timing and location of future leasing. Including areas in the 11th Program at this stage incentivizes industry to look to the U.S. OCS when considering long-term investment strategies in upstream energy development and encourages industry to employ their worldclass geological and technical expertise to assess and evaluate America's potential OCS oil and gas resources. This will, in turn, further America's understanding of the resources available on the OCS to meet national energy needs. The Secretary's approach to the 1st Proposal does not prematurely foreclose exploration planning, but fosters it, to allow for the potential discovery of oil and gas on the OCS.

Allowing for the potential discovery of new oil and gas reserves on the OCS is consistent with the Administration's policies, which seek to achieve energy security and resilience by reducing U.S. reliance on imported energy. Additionally, OCS oil and gas production benefits the United States by helping to reinvigorate American manufacturing and job growth and contributes to the U.S. gross domestic product. Many of the jobs in the oil and gas industry earn a significant wage premium; these employees have more purchasing power and can consume more goods and services, which increases their standard of living and contributes more to the economy.

Grounded in the above principles, and after careful consideration of public input and the OCS Lands Act Section 18(a)(2) factors, the 1st Proposal includes a schedule of 34 lease sales in three of the four OCS Regions, including all or portions of 21 of the 27 OCS planning areas (see Table 1 and Figures 1 and 2). This 1st Proposal does not include a potential lease sale in the North Aleutian Basin Planning Area, Washington/Oregon Planning Area, or any of the Atlantic planning areas. After considering relevant information and analysis, the Secretary intends to create a new South-Central GOA Planning Area, the boundaries of which would align with GOA Program Area B. Additionally, the Secretary has decided to remove the remaining areas within the current Eastern GOA Planning Area from further leasing consideration in the 11th Program (see Figure 2).

Table 1—1st Proposal Lease Sale Schedule
Count | Sale year | OCS region | Program area
1. | 2026 | Alaska | Beaufort Sea Program Area.
2. | 2027 | Pacific | Southern California Program Area.
3. | 2027 | Pacific | Central California Program Area.
4. | 2027 | Gulf of America | GOA Program Area A.
5. | 2027 | Alaska | Cook Inlet Program Area.
6. | 2028 | Alaska | Chukchi Sea Program Area.
7. | 2028 | Gulf of America | GOA Program Area A.
8. | 2028 | Alaska | Cook Inlet Program Area.
9. | 2029 | Pacific | Southern California Program Area.
10. | 2029 | Pacific | Northern California Program Area.
11. | 2029 | Pacific | Central California Program Area.
12. | 2029 | Gulf of America | GOA Program Area A.
13. | 2029 | Gulf of America | GOA Program Area B.
14. | 2029 | Alaska | Cook Inlet Program Area.
15. | 2030 | Alaska | Gulf of Alaska Program Area.
16. | 2030 | Alaska | Shumagin Program Area.
17. | 2030 | Alaska | Kodiak Program Area.
18. | 2030 | Gulf of America | GOA Program Area B.
19. | 2030 | Gulf of America | GOA Program Area A.
20. | 2030 | Alaska | Cook Inlet Program Area.
21. | 2030 | Pacific | Southern California Program Area.
22. | 2030 | Alaska | Chukchi Sea Program Area.
23. | 2030 | Alaska | Beaufort Sea Program Area.
24. | 2030 | Alaska | Hope Basin Program Area.
25. | 2030 | Alaska | Norton Basin Program Area.
26. | 2030 | Alaska | Navarin Basin Program Area.
27. | 2030 | Alaska | St. George Basin Program Area.
28. | 2030 | Alaska | High Arctic Program Area.
29. | 2031 | Gulf of America | GOA Program Area A.
30. | 2031 | Alaska | Cook Inlet Program Area.
31. | 2031 | Alaska | Aleutian Basin Program Area.
32. | 2031 | Alaska | Aleutian Arc Program Area.
33. | 2031 | Alaska | Bowers Basin Program Area.
34. | 2031 | Alaska | St. Matthew-Hall Program Area.

BILLING CODE 4340-98-P

Including 21 of the 27 planning areas in this 1st Proposal allows for flexibility in the future stages of the National OCS Program development process, as well as the opportunity to seek additional input and further coordinate with key stakeholders on those areas. The Secretary is committed to enhancing coordination and collaboration with other governmental entities—including Tribal governments, governors, and other Federal agencies—and key stakeholders, to discover solutions to multiple use challenges so oil and gas resources can be discovered and extracted, critical military and other ocean uses can continue, and our sensitive physical and biological resources are protected.

Authority: This NOA for the DPP for the 11th Program is published in accordance with Section 18 of the OCS Lands Act and its implementing regulations (30 CFR part 556).

Matthew Giacona,
Acting Director, Bureau of Ocean Energy Management.

[FR Doc. 2025-20760 Filed 11-21-25; 8:45 am]

BILLING CODE 4340-98-C